DEPARTMENT OF COMMERCE

International Trade Administration

[A-570-952]

Narrow Woven Ribbon With Woven Selvedge From the People's Republic of China: Preliminary Results of Administrative Review and Preliminary Partial Rescission of Antidumping Duty Administrative Review; 2015-2016

AGENCY: Enforcement and Compliance, International Trade Administration, Department of Commerce.

SUMMARY: The Department of Commerce (Department) is conducting an administrative review of the antidumping duty order on narrow woven ribbons with woven selvedge (woven ribbons) from the People's Republic of China (PRC) for the period of review (POR) September 1, 2015 through August 31, 2016. This review covers two PRC companies: Huzhou Kingdom Coating Industry Co., Ltd. (Huzhou Kingdom) and Huzhou Unifull Label Fabric Co., Ltd. (Huzhou Unifull). The Department preliminarily finds that neither Huzhou Unifull nor Huzhou Kingdom established eligibility for a separate rate, as Huzhou Unifull had no entries of subject merchandise during the POR and Huzhou Kingdom failed to participate in the proceeding. Furthermore, the Department is rescinding administrative review with respect to Huzhou BeiHeng Textile Co., Ltd. (Huzhou BeiHeng) and Huzhou Siny Label Material Co., Ltd. (Huzhou Siny). Interested parties are invited to comment on these preliminary results.

DATES: Applicable July 19, 2017.

FOR FURTHER INFORMATION CONTACT: Aleksandras Nakutis, AD/CVD Operations, Office IV, Enforcement & Compliance, International Trade Administration, U.S. Department of Commerce, 1401 Constitution Avenue NW., Washington, DC 20230; telephone: (202) 482-3147.

SUPPLEMENTARY INFORMATION:

Background

On September 17, 2010, the Department published in the Federal Register an amended antidumping duty order on woven ribbons from the PRC.¹ On September 8, 2016, the Department published in the Federal Register a notice of opportunity to request an administrative review of the Order.² On September 27, 2016, Avery Dennison Corporation (Avery Dennison) timely requested a review of four companies: Huzhou BeiHeng, Huzhou Siny, Huzhou Kingdom, and Huzhou Unifull.³ Additionally, on September 30, 2016, Berwick Offray LLC and its subsidiary Lion Ribbon Company, LLC (the petitioner) timely requested a review ⁴ of the producer/exporter Yama Ribbons and Bows Co., Ltd. (Yama Ribbons). However, the Department determined in the underlying investigation that merchandise produced and exported by Yama Ribbons is excluded from the antidumping duty order; as a result, the Department did not initiate an administrative review on Yama Ribbons.⁵ On November 9, 2016, the Department initiated a review of four companies: Huzhou BeiHeng, Huzhou Siny, Huzhou Kingdom, and Huzhou Unifull.⁶ On May 31, 2017, the Department extended the deadline for the preliminary results by a total of 26 days until June 28, 2017.⁷ On June 28, 2017, the Department extended the deadline for the preliminary results by an additional 14 days until July 12, 2017.⁸

¹ See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010) (Order).

² See Antidumping or Countervailing Duty Order, Finding, or Suspended Investigation; Opportunity To Request Administrative Review, 81 FR 62096 (September 8, 2016).

³ See Letter from Avery Dennison to the Department, Re: “Narrow Woven Ribbons with Woven Selvedge from China: Request for Administrative Review,” dated September 27, 2016.

⁴ See Letter from petitioner to the Department, Re: “Narrow Woven Ribbons with Woven Selvedge from the People's Republic of China/Petitioner's Request for Administrative Review,” dated September 30, 2016.

⁵ See Order, 75 FR 56982.

⁶ See Initiation of Antidumping and Countervailing Duty Administrative Reviews, 81 FR 78778 (November 9, 2016) (Initiation Notice).

⁷ See Memorandum from Aleksandras Nakutis to Gary Taverman, Deputy Assistant Secretary, regarding “Narrow Woven Ribbons with Woven Selvedge from the People's Republic of China: Extension of Preliminary Results of Antidumping Duty Administrative Review,” dated May 31, 2017.

⁸ See Memorandum from Aleksandras Nakutis to Gary Taverman, regarding “Narrow Woven Ribbons with Woven Selvedge from the People's Republic of China: Extension of Preliminary Results of Antidumping Duty Administrative Review,” dated June 28, 2017.

Scope of the Order

The products covered by the order are narrow woven ribbons with woven selvedge. The merchandise subject to the Order is classifiable under the Harmonized Tariff Schedule of the United States (HTSUS) subheadings 5806.32.1020; 5806.32.1030; 5806.32.1050 and 5806.32.1060. Subject merchandise also may enter under HTSUS subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written product description in the Order remains dispositive.⁹

⁹ For a complete description of the scope of the order, please see “Decision Memorandum for Preliminary Results of Antidumping Duty Administrative Review: Narrow Woven Ribbons With Woven Selvedge from the People's Republic of China,” from James Maeder, Senior Director performing the duties of Deputy Assistant Secretary for Antidumping and Countervailing Duty Operations, to Gary Taverman, Deputy Assistant Secretary for Antidumping and Countervailing Duty Operations, performing the non-exclusive functions and duties of the Assistant Secretary for Enforcement and Compliance (“Preliminary Decision Memorandum”), dated concurrently with this notice.

Methodology

The Department is conducting this review in accordance with section 751(a)(1)(B) of the Tariff Act of 1930, as amended (the Act). For a full description of the methodology underlying our conclusions, see Preliminary Decision Memorandum. This memorandum is a public document and is on file electronically via Enforcement and Compliance's Antidumping and Countervailing Duty Centralized Electronic Service System (ACCESS). ACCESS is available to registered users at http://access.trade.gov and in the Central Records Unit, room B8024 of the main Department of Commerce building. In addition, a complete version of the Preliminary Results Decision Memorandum can be accessed directly on the Internet at http://enforcement.trade.gov/frn/index.html. The signed Preliminary Results Decision Memorandum and the electronic versions of the Preliminary Decision Memorandum are identical in content.

Preliminary Results of Review

The Department preliminarily finds that both Huzhou Kingdom and Huzhou Unifull have failed to demonstrate eligibility for a separate rate and, therefore, they are considered part of the PRC-wide entity. The Department finds that Huzhou Kingdom did not submit a certification of no sales, a separate rate application, or a separate rate certification. With respect to Huzhou Unifull, the Department preliminary finds there are no reviewable entries during the POR and, thus, Huzhou Unifull has failed to demonstrate eligibility for a separate rate. Both Avery Dennison and Huzhou Unifull submitted the same CBP Form 7501 to indicate an entry of subject merchandise by Huzhou Unifull. However, after examination, the Department determines that the CBP Form 7501 does not correspond to a sale by Huzhou Unifull and as such, found there are no reviewable entries of subject merchandise during the POR.¹⁰

¹⁰ See Preliminary Decision Memo.

Partial Rescission of Antidumping Duty Administrative Review

Pursuant to 19 CFR 351.213(d)(1), the Department will rescind an administrative review, in whole or in part, if a party that requested the review withdraws its request within 90 days of the date of publication of the notice of initiation of the requested review. Huzhou BeiHeng and Huzhou Siny withdrew their respective requests for an administrative review within 90 days of the date of publication of Initiation Notice.¹¹ Accordingly, the Department is rescinding this review with respect to Huzhou BeiHeng and Huzhou Siny, in accordance with 19 CFR 351.213(d)(1).¹²

¹¹ See letter from Avery Dennison to the Department, Re: “Narrow Woven Ribbons with Woven Selvedge from China: Withdrawal from the Administrative Review,” dated February 7, 2017.

¹² See Appendix. As stated in Change in Practice in NME Reviews, the Department no longer considers the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (Change in Practice in NME Reviews). The PRC-wide entity is not subject to this administrative review because no interested party requested a review of the entity. See Initiation Notice, 81 FR at 78778 (November 9, 2016).

Disclosure and Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this proceeding are requested to submit with each argument a statement of the issue, a summary of the argument not to exceed five pages, and a table of statutes, regulations, and cases cited, in accordance with 19 CFR 351.309(c)(2) and (d)(2).

Pursuant to 19 CFR 351.310(c), interested parties, who wish to request a hearing, or to participate in a hearing if one is requested, must submit a written request to the Assistant Secretary for Enforcement and Compliance, U.S. Department of Commerce, filed electronically using ACCESS. Electronically filed case briefs/written comments and hearing requests must be received successfully in their entirety by the Department's electronic records system, ACCESS, by 5:00 p.m. Eastern Standard Time, within 30 days after the date of publication of this notice.¹³ Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW., Washington DC 20230. Unless the deadline is extended pursuant to section 751(a)(3)(A) of the Act and 19 CFR 351.213(h)(2), the Department intends to issue the final results of this administrative review, including the results of its analysis of the issues raised in any written briefs, not later than 120 days after the date of publication of this notice, pursuant to section 751(a)(3)(A) of the Act.

¹³ See 19 CFR 351.310(c).

Assessment Rates

Upon issuance of the final results, the Department will determine, and U.S. Customs and Border Protection (CBP) shall assess, antidumping duties on all appropriate entries covered by this review.¹⁴ The Department intends to issue assessment instructions to CBP 15 days after the publication date of the final results of this review. For the companies for which this review is rescinded, antidumping duties shall be assessed at rates equal to the cash deposit of estimated antidumping duties required at the time of entry, or withdrawal from warehouse, for consumption, in accordance with 19 CFR 351.212(c)(l)(i). The Department intends to issue appropriate assessment instructions directly to CBP 15 days after publication of this notice.

¹⁴ See 19 CFR 351.212(b)(1).

Cash Deposit Requirements

The following cash deposit requirements will be effective upon publication of the final results of this administrative review for all shipments of the subject merchandise entered, or withdrawn from warehouse, for consumption on or after the publication date of the final results of review, as provided by section 751(a)(2)(C) of the Act: (1) For exports of merchandise exported by Huzhou Kingdom, the cash deposit rate is the PRC-wide rate of 247.26 percent; (2) for exports of merchandise exported by Huzhou Unifull, the cash deposit rate is the PRC-wide rate of 247.26; (3) for previously investigated or reviewed PRC and non-PRC exporters which are not under review in this segment of the proceeding but which have separate rates, the cash deposit rate will continue to be the exporter-specific rate published for the most recent period; (4) for all PRC exporters of subject merchandise that have not been found to be entitled to a separate rate, the cash deposit rate will be the PRC-wide rate of 247.26 percent; and (5) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: July 12, 2017.
Gary Taverman
Deputy Assistant Secretary for Antidumping and Countervailing Duty Operations, performing the non-exclusive functions and duties of the Assistant Secretary for Enforcement and Compliance.

Appendix

List of Topics Discussed in the Preliminary Results Decision Memorandum

Summary

Background

Scope of the Order

Discussion of the Methodology

Preliminary Partial Rescission of Antidumping Duty Administrative Review

Companies That Did Not Establish Eligibility for a Separate Rate

Recommendation

[FR Doc. 2017-15139 Filed 7-18-17; 8:45 am]

BILLING CODE 3510-DS-P